DEPARTMENT OF STATE

Delegation of Authority 175-3; Further Assignment of Functions Under Section 208 of Title 18 of the United States Code

AGENCY: Department of State.

ACTION: Further assignment of functions.

SUMMARY: Delegations of Authority No. 175 and 245 delegated authority from the Secretary of State to the Deputy Secretary of State to issue waivers pursuant to 18 U.S.C. 208(b)(1) to Department of State employees. In 1992 and 1995, the Deputy Secretary of State redelegated authority to the Legal Adviser to issue certain waivers. This notice informs the public of the Deputy Secretary's further delegation of authority to the Legal Adviser to issue certain waivers.

DATES: These actions are effective immediately.

Section 1. Functions Delegated

By virtue of the authority vested in me by the Secretary of State in Delegation of Authority No. 175, dated April 7, 1989, and Delegation of Authority 245, dated April 23, 2001, I hereby delegate to the Legal Adviser the authority vested in me to issue waivers pursuant to 18 U.S.C. 208(b)(1) to Department of State employees (other than Seventh Floor principals) in any of the following circumstances:

(a) Where the affected financial interest of the employee is worth $250,000 or less;

(b) Where the waiver is applicable for a specific activity;

(c) Where the employee is seeking employment by an international organization; or

(d) Where the waiver does not exceed six (6) months in duration.

Section 2. Delegations Revoked

(a) Delegation of Authority dated September 30, 1992, from the Deputy Secretary of State to the Legal Adviser delegating authority to issue waivers pursuant to 18 U.S.C. 208(b)(1) to Department of State employees (other than Seventh Floor principals) where the affected financial interest of the employee is worth less than $50,000 or where the waiver is applicable for a specific activity.

(b) Delegation of Authority dated March 10, 1995, from the Acting Secretary of State to the Legal Adviser delegating authority to issue waivers pursuant to 18 U.S.C. 208(b)(1) to Department of State employees, provided such waivers shall not exceed 90 days in duration.

Section 3. General Provisions

Notwithstanding any provision of this delegation of authority, the Secretary and the Deputy Secretary of State may at any time exercise the functions herein delegated. This delegation of authority shall be published in the Federal Register.

Dated: May 14, 2003.
Richard L. Armitage,
Deputy Secretary of State, Department of State.

[FR Doc. 03-13150 Filed 5-23-03; 8:45 am]

BILLING CODE 4710-10-P